DEPARTMENT OF HOUSING AND URBAN DEVELOPMENT

[Docket No. FR-5600-FA-32]

Announcement of Funding Awards for HUD's Fiscal Year 2011-2012 Technical Assistance and Capacity Building Under the Transformation Initiative (OneCPD TA and Core Curricula)

AGENCY: Office of the Assistant Secretary for Community Planning and Development, HUD.

ACTION: Announcement of funding awards.

SUMMARY: In accordance with section 102(a)(4)(C) of the Department of Housing and Urban Development Reform Act of 1989, this announcement notifies the public of funding decisions made by the Department in a competition for funding under the Notice of Funding Availability (NOFA) for the Technical Assistance and Capacity Building under the Transformation Initiative (OneCPD TA and Core Curricula) program. This announcement contains the names of the awardees and amounts of the awards made available by HUD.

FOR FURTHER INFORMATION CONTACT: Julie Hovden, Director, Technical Assistance Division, Office of Community Planning and Development, 451 Seventh Street SW., Room 7218, Washington, DC 20410-7000; telephone 202-402-4496 (this is not a toll-free number). Persons with speech or hearing impairments may access this telephone number via TTY by calling the toll-free Federal Information Relay Service during working hours at 800-877-8339. For general information on this and other HUD programs, visit HUD's OneCPD Resource Exchange at www.onecpd.info or HUD's Web site at www.hud.gov.

SUPPLEMENTARY INFORMATION: The Fiscal Year 2011-2012 Technical Assistance and Capacity Building under the Transformation Initiative (OneCPD TA and Core Curricula) was designed to provide assessment tools, technical and capacity building assistance to state government, local government, and non-profit recipients of OneCPD TA and Core Curricula funding to achieve measureable outcomes through the selection of technical assistance (TA) providers for this program.

The competition was announced in the OneCPD TA and Core Curricula NOFA published February 14, 2012 (FR-5600-N-32) and closed on March 15, 2012. The NOFA allowed up to $61 million for OneCPD Technical Assistance, for technical assistance and capacity building activities for recipients, including state and local governments and non-profit organizations, receiving funds from the Office of Community Planning and Development (CPD), and up to $995,000 to develop, deliver and enhance Core Curricula in the areas of Development Finance, Environmental Review and Compliance, Asset Management and Preservation of HUD-Assisted Projects and Construction and Rehabilitation Management. Applications were rated and selected for funding on the basis of selection criteria contained in the Notice. For the Fiscal Year 2011-2012 competition, awards totaling $63,390,365 were awarded to 15 distinct technical assistance providers nationwide.

In accordance with section 102(a)(4)(C) of the Department of Housing and Urban Development Reform Act of 1989 (103 Stat. 1987, 42 U.S.C. 3545), the Department is publishing the grantees and the amounts of the awards in Appendix A to this document.

Dated: May 30, 2012.
Clifford D. Taffet,
General Deputy Assistant Secretary for Community Planning and Development.

Appendix A

Recipient | State | Award type | Amount
Abt Associates, Inc. | MA | OneCPD | $7,500,000
Capital Access, Inc. | PA | OneCPD | 2,000,000
Cloudburst Consulting Group Inc. | MD | OneCPD | 7,750,000
Cloudburst Consulting Group Inc. | MD | Core Curricula | 125,000
Dennison Associates, Inc. | DC | OneCPD | 500,000
Econometrica, Inc. | MD | OneCPD | 2,000,000
Enterprise Community Partners, Inc. | MD | OneCPD | 8,500,000
Housing Assistance Council | DC | OneCPD | 3,000,000
ICF International, Inc. | VA | OneCPD | 9,405,950
Minnesota Housing Partnership | MN | OneCPD | 2,000,000
National Association for Latino Community Asset Builders | TX | OneCPD | 2,500,000
National Center on Family Homelessness | MA | OneCPD | 4,550,000
National Center on Family Homelessness | MA | Core Curricula | 650,000
National Council for Community Development, Inc | NY | OneCPD | 500,000
Ohio Capital Corporation for Housing | OH | OneCPD | 750,000
Technical Assistance Collaborative, Inc | MA | OneCPD | 2,750,000
Training & Development Associates, Inc | NC | OneCPD | 8,689,415
Training & Development Associates, Inc | NC | Core Curricula | 220,000
Total—OneCPD |  |  | 62,395,365
Total—Core Curricula |  |  | 995,000
Total |  |  | 63,390,365

[FR Doc. 2012-14250 Filed 6-11-12; 8:45 am]

BILLING CODE 4210-67-P